ENVIRONMENTAL PROTECTION AGENCY

[OPP-2004-0418]; FRL-7700-1]

Methyl Eugenol; Tolerance Reassessment Decision for Low Risk Pesticide; Notice of Availability; Correction

AGENCY: Environmental Protection Agency (EPA).

ACTION: Notice; correction.

SUMMARY: EPA issued a notice in the Federal Register of February 2, 2005, concerning EPA's Tolerance Reassessment Decision (TRED) for the pesticide Methyl Eugenol. This document is being issued to correct typographical error in the DATES section of the previous Federal Register Notice. The earlier text read “Comments, identified by docket ID number OPP-2004-0418, must be received on or before February 3, 2005.”The date of “February 3, 2005” was a typographical error.

FOR FURTHER INFORMATION CONTACT: Nathan Mottl, Special Review and Reregistration Divison, (7508C), Office of Pesticide Programs, Environmental Protection Agency, 1200 Pennsylvania Ave., NW., Washington, DC 20460-0001; telephone number: (703) 305-0208; e-mail address:mottl.nathan@epa.gov.

SUPPLEMENTARY INFORMATION:

I. General Information

A. Does this Action Apply to Me?

The Agency included in the notice a list of those who may be potentially affected by this action. If you have questions regarding the applicability of this action to a particular entity, consult the person listed under FOR FURTHER INFORMATION CONTACT.

B. How Can I Get Copies of this Document and Other Related Information?

1. Docket. EPA has established an official public docket for this action under docket identification (ID) number OPP-2004-0418. The official public docket consists of the documents specifically referenced in this action, any public comments received, and other information related to this action. Although a part of the official docket, the public docket does not include Confidential Business Information (CBI) or other information whose disclosure is restricted by statute. The official public docket is the collection of materials that is available for public viewing at the Public Information and Records Integrity Branch (PIRIB), Rm. 119, Crystal Mall #2, 1801 S. Bell St., Arlington, VA. This docket facility is open from 8:30 a.m. to 4 p.m., Monday through Friday, excluding legal holidays. The docket telephone number is (703) 305-5805.

2. Electronic access. You may access this Federal Register document electronically through the EPA Internet under the “Federal Register” listings at http://www.epa.gov/fedrgstr/.

An electronic version of the public docket is available through EPA's electronic public docket and comment system, EPA Dockets. You may use EPA Dockets at http://www.epa.gov/edocket/ to submit or view public comments, access the index listing of the contents of the official public docket, and to access those documents in the public docket that are available electronically. Once in the system, select “search,” then key in the appropriate docket ID number.

II. What Does this Correction Do?

In the DATES section of FR Doc. 05-1865, published in the Federal Register of February 2, 2005 (70 FR 5440)(FRL-7693-9) the number of days for submission of comments should have been computed as 60 days after date of publication instead of “the date after date of publication,” which was computed to be February 3, 2005. This document corrects the DATES section as follows and adds additional time for submission of comments because of this error.

On page 5440, the DATES section should read:

“DATES: Comments, identified by docket ID number OPP-2004-0418, must be received on or before April 25, 2005.

”

List of Subjects

Environmental protection, pesticides, and pests.

Dated: February 14, 2005.
Debra Edwards,
Director, Special Review and Reregistration Division, Office of Pesticide Programs.

[FR Doc. 05-3447 Filed 2-22-05; 8:45 am]

BILLING CODE 6560-50-S